DEPARTMENT OF THE INTERIOR

Bureau of Land Management

[AK930-1310EI-241A]

National Petroleum Reserve—Alaska Oil and Gas Lease Sale 2008

AGENCY: Bureau of Land Management, Alaska State Office, Interior.

ACTION: Notice of National Petroleum Reserve—Alaska Oil and Gas Lease Sale 2008 and Notice of Availability of the Detailed Statement of Sale for Oil and Gas Lease Sale 2008 in the Petroleum Reserve.

SUMMARY: The Bureau of Land Management's Alaska State Office will hold an oil and gas lease sale bid opening for all available tracts in the Northeast Planning Area, tracts straddling the Ikpikpuk River in the Northeast and Northwest planning areas, and tracts in the southern portion of the Northwest Planning Area. With the exception of new tracts in the Northwest Planning Area north of the Colville River, all tracts have been offered previously. Additionally, leased tracts that have been relinquished will be available in this sale.

DATES: The oil and gas lease sale bid opening will be held at 9 a.m. on Wednesday, September 24, 2008. Sealed bids must be received by 3:45 p.m., Friday, September 19, 2008.

ADDRESSES: The oil and gas lease sale bids will be opened at the Wilda Marston Theater, ZJ Loussac Public Library, 3600 Denali St., Anchorage, Alaska. Sealed bids must be sent to Carol Taylor (AK932), BLM—Alaska State Office; 222 W. 7th Ave., #13; Anchorage, AK 99513-7599.

FOR FURTHER INFORMATION CONTACT: Ted Murphy, (907) 271-4413.

SUPPLEMENTARY INFORMATION: All bids must be submitted by sealed bid in accordance with the provisions identified in the Detailed Statement of Sale. They must be received at the BLM—Alaska State Office, ATTN: Carol Taylor (AK932); 222 W. 7th Ave., #13; Anchorage, Alaska 99513-7599; no later than 3:45 p.m., Friday, September 19, 2008.

The Detailed Statement of Sale for the NPR-A Oil and Gas Lease Sale 2008 will be available to the public immediately after publication of this Notice. The Detailed Statement may be obtained from the BLM—Alaska Web site at http://www.blm.gov/ak, or by request from the Public Information Center, BLM—Alaska State Office; 222 W. 7th Ave., #13; Anchorage, Alaska 99513-7599; telephone (907) 271-5960. The Detailed Statement of Sale will include, among other things, a description of the areas to be offered for lease, the lease terms, conditions, special stipulations, required operating procedures, and how and where to submit bids.

Authority: 43 CFR 3131.4-1(a).

Dated: August 6, 2008.
Thomas P. Lonnie,
Alaska State Director.

[FR Doc. E8-18717 Filed 8-14-08; 8:45 am]

BILLING CODE 4310-JA-P